DEPARTMENT OF HEALTH AND HUMAN SERVICES

Administration for Children and Families

Proposed Information Collection Activity; Comment Request

Title: National Evaluation of the Sexual Risk Avoidance Education (SRAE) Program—National Descriptive Study

OMB NO.: [NEW]

Description: The Administration for Children and Families (ACF) proposes a data collection effort related to the National Evaluation of the Sexual Risk Avoidance Education (SRAE) Program—National Descriptive Study.

The National Descriptive Study (of the National Evaluation of the SRAE Program) has multiple components. This information collection request only pertains to the Early Implementation Study, which will provide an early catalogue of SRAE programs' implementation. ACF seeks approval to collect the following information:

—Survey for Use with SRAE grantees. The purpose of this collection effort is to conduct surveys with administrators/program directors in each of the states/organizations that received SRAE grants to better understand what key decisions states/organizations made regarding the design of their SRAE-funded programs and why they made those decisions.

Interview Guide for Use with SRAE grantees. The purpose of this collection effort is to conduct semi-structured interviews, that follow-on the surveys, with administrators/program directors in each of the states/organizations that received SRAE grants: The interviews will offer long-answer, qualitative responses to key questions, to better understand what key decisions states/organizations made regarding the design of their SRAE-funded programs and why they made those decisions.

Respondents: State level administrators; Agency administrators; Organization heads; Project directors

Annual Burden Estimates
Instrument | Total number of respondents | Annual number of respondents | Number of responses per respondent | Average burden hours per response | Annual burden hours
Survey for SRAE Grantees | 125 | 1 | 1 | 1 | 125
Interview Guide for SRAE Grantees | 125 | 1 | 1 | 1 | 125

Estimated Total Annual Burden Hours: 250 hours.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research, and Evaluation, 330 C Street SW, Washington, DC 20201, Attn: OPRE Reports Clearance Officer. Email address: OPREinfocollection@acf.hhs.gov. All requests should be identified by the title of the information collection. The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Emily Jabbour,
ACF/OPRE Certifying Officer.

[FR Doc. 2018-24997 Filed 11-15-18; 8:45 am]

BILLING CODE 4184-01-P